DEPARTMENT OF HOMELAND SECURITY

Office of the Secretary

8 CFR Part 235

[DHS Docket No. DHS-2017-0003]

RIN 1601-AA81

Eliminating Exception to Expedited Removal Authority for Cuban Nationals Arriving by Air

AGENCY: Office of the Secretary, Department of Homeland Security.

ACTION: Final rule; request for comments; correction.

SUMMARY: The Department of Homeland Security (DHS) published a rule in the Federal Register of January 17, 2017, eliminating an exception to expedited removal authority for Cuban nationals arriving by air. The rule contained incorrect contact information under two captions. This correction fixes the errors.

DATES: Effective on January 25, 2017.

FOR FURTHER INFORMATION CONTACT: David Cloe, DHS Office of Policy, 202-447-4647, David.Cloe@HQ.DHS.GOV.

SUPPLEMENTARY INFORMATION: In FR Doc. 2017-00915, appearing on page 4769 in the Federal Register of Tuesday, January 17, 2017, the following corrections are made:

1. At the bottom of the first column and the top of the second column, correct the “Mail or Hand Delivery/Courier” bullet to read:

Mail or Hand Delivery/Courier: Please submit all written comments (including and CD-ROM submissions) to David Cloe, DHS Office of Policy, 245 Murray Lane SW., Mail Stop 0445, Washington, DC 20528.

2. In the second column, correct the FOR FURTHER INFORMATION CONTACT caption to read:

David Cloe, DHS Office of Policy, 202-447-4647, David.Cloe@HQ.DHS.GOV.

Signed at Washington, DC, this 18th of January, 2017.
David Shahoulian,
Deputy General Counsel.

[FR Doc. 2017-01665 Filed 1-24-17; 8:45 am]

BILLING CODE 9110-9M-P